DEPARTMENT OF AGRICULTURE

Rural Housing Service

Housing Demonstration Program

AGENCY: Rural Housing Service, United States Department of Agriculture (USDA).

ACTION: Notice of Funding for the Rural Housing Demonstration Program.

SUMMARY: The Rural Housing Service (RHS) announces the availability of housing funds for Fiscal Year (FY) 2000 for the Rural Housing Demonstration Program. For FY 2000, RHS has set aside $3 million for the Innovative Demonstration Initiatives and is soliciting proposals for a Housing Demonstration program under section 506(b) of title V of the Housing Act of 1949. Under section 506(b), RHS may provide loans for innovative housing units and systems which do not meet existing published standards, rules, regulations, or policies. The intended effect is to increase the availability of affordable Rural Housing (RH) for low-income families through innovative designs and systems.

EFFECTIVE DATE: May 5, 2000.

FOR FURTHER INFORMATION CONTACT: Gloria L. Denson, Senior Loan Specialist, Single Family Housing Direct Loan Division, RHS, U.S. Department of Agriculture, STOP 0783, 1400 Independence Ave. SW, Washington, DC 20250-0783, Telephone (202) 720-1474. (This is not a toll free number.)

SUPPLEMENTARY INFORMATION: Under current standards, regulations, and policies, some low-income rural families lack sufficient income to qualify for loans to obtain adequate housing. Section 506(b) of title V of the Housing Act of 1949, authorizes a housing demonstration program that could result in housing that these families can afford. The Congress of the United States made two conditions: (1) That the health and safety of the population of the areas in which the demonstrations are carried out will not be adversely affected, and (2) that the aggregate expenditures for the demonstration may not exceed $10 million in any Fiscal Year.

Rural Development State Directors are authorized in FY 2000 to accept proposed demonstration concept proposals from nonprofit and for profit organizations.

The objective of the demonstration programs is to test new approaches to offering housing under the statutory authority granted to the Secretary of Agriculture. Rural Development will be required to review each application for completeness and accuracy; however, some demonstration programs may or may not be consistent with some of the provisions of our 7 CFR part 3550-Direct Single Family Housing Loans and Grants regulation. Under section 506(b) of the Housing Act of 1949, the Agency may provide loans for innovative housing design units, and systems which do not meet existing published standards, rules, regulations, or policies.

An application will be considered on a first come, first served basis based on the date a completed application is submitted. An application is considered complete only if the “Application for Approval of Housing Innovation” is complete in content, contains information related to the evaluation criteria and all applicable additional information required by this form has been provided. All application packages must be in accordance with the technical management requirements and address the evaluation criteria in the Proposal Content and Evaluation Criteria. The application, Proposal Content and Evaluation Criteria, and further information may be obtained from the Rural Development State Office in your area. (See the State Office address list at the end of this notice or access the website at http://www.rurdev.usda.gov/recd_map.html. Organizations that submit incomplete applications will be sent a letter within 15 working days after submission of the incomplete package, advising of additional information needed in the proposal for continued processing.

The following evaluation factors will not be weighted and are non-competitive. RHS, in its analysis of the proposals received, will give primary consideration to those proposals which demonstrate the greatest potential for carrying out the objectives of this demonstration effort in accordance with the following criteria:

A. Housing Unit Concept

1. A proposal must be well beyond the “idea” state. Sufficient testing must have been completed to demonstrate its feasibility. The proposal must be judged ready for full scale field testing in a rural setting.

2. Ability of the housing unit to provide for the protection of life, property, and for the safety and welfare of the consumer, general public and occupants through the design, construction, quality of materials, use, and maintenance of the housing unit.

3. Flexibility of the housing units in relation to varying types of housing and varying site considerations.

4. Flexibility of the housing unit concept, insofar as it provides the ability to adjust or modify unit size and arrangements, either during design or after construction.

5. Efficiency in the use of materials and labor, with respect to cost in place, the conservation of materials, and the effective use of labor skills. Potential for Self-Help Technical Assistance Grant applications.

6. Selection of materials for durability and ease of maintenance.

7. Concepts for the effective use of land and development.

B. Organization Capabilities

1. The experience and “know-how” of the proposed organization or individual to implement construction of the housing unit concept in relation to the requirements of RHS's housing programs.

2. The management structure and organization of the proposer.

3. The quality and diversity of management and professional talent proposed as “key individuals.”

4. The management plan of how this effort will be conducted.

C. Cost and Price Analysis

1. The level of costs which are proposed, as they may compare with other proposals and be considered realistic for the efforts planned. Also, the quantity and level of detail in the information supplied.

2. Projected cost of “housing in place,” with particular reference to housing for very low and low-income families.

An acceptable proposal will be sent by the State Director to the National Office for concurrence by the RHS Administrator before the State Director may approve it. If the proposal is not selected, the State Director will so notify the applicant in writing, giving specific reasons why the proposal was not selected. The funds for the RH Demonstration program are section 502 single family housing funds and are available to housing applicants who wish to purchase an approved demonstration dwelling. Funds cannot be reserved or guaranteed under the demonstration housing concept. There is no guarantee that a market exists for demonstration dwellings, and this does not ensure that an eligible loan applicant will be available for such a section 502 RH dwelling. If there is no available RHS eligible loan applicant, the RH demonstration program applicant will have to advance funds to complete the construction of the demonstration housing, with the risk that there may be no RHS applicant from which the builder will recover his or her development and construction costs.

This program or activity is listed in the Catalog of Federal Domestic Assistance under No. 10.410. For the reasons contained in 7 CFR part 3015, subpart V and RD Instruction 1940-J, “Intergovernmental Review of Rural Development Programs and Activities,” this program or activity is excluded from the scope of Executive Order 12372, which requires intergovernmental consultation with State and local officials.

All interested parties must make a written request for a proposal package. The request must be made to the State Director in the State in which the proposal will be submitted; RHS will not be liable for any expenses incurred by respondents in the development and submission of applications.

The reporting requirements contained in this notice have been approved by the Office of Management and Budget (OMB) under Control Number 0575-0114.

Date: April 28, 2000.
David J. Villano,
Acting Administrator, Rural Housing Service.

The following is an address list of Rural Development State Offices across the nation:

Alabama

Sterling Centre, 4121 Carmichael Road, Suite 601, Montgomery, AL 36106-3683, (334) 279-3400

Alaska

Suite 201, 800 W. Evergreen, Palmer, AK 99645-6539, (907) 745-2176

Arizona

Phoenix Corporate Center, 3003 N. Central Avenue, Suite 900, Phoenix, AZ 85012-2906, (602) 280-8700

Arkansas

Room 3416, 700 W. Capitol, Little Rock, AR 72201-3225, (501) 301-3200

California

Agency 4169, 430 G Street, Davis, CA 95616-4169, (530) 792-5800

Colorado

Room E100, 655 Parfet Street, Lakewood, CO 80215, (303) 236-2801

Delaware and Maryland

PO Box 400, 4607 S. DuPont Highway, Camden, DE 19934-9998, (302) 697-4300

Florida and Virgin Islands

PO Box 147010, 4440 NW 25th Place, Gainesville, FL 32614-7010, (352) 338-3400

Georgia

Stephens Federal Building, 355 E. Hancock Avenue, Athens, GA, 30601-2768, (706) 546-2162

Hawaii

Room 311, Federal Building, 154 Waianuenue Avenue, Hilo, HI 96720, (808) 933-3000

Idaho

Suite A1, 9173 W. Barnes Drive, Boise, ID 83709, (208) 378-5600

Illinois

Illini Plaza, Suite 103, 1817 S. Neil Street, Champaign, IL 61820, (217) 398-5235, (217) 398-5412 for automated answer

Indiana

5975 Lakeside Boulevard, Indianapolis, IN 46278, (317) 290-3100

Iowa

873 Federal Building, 210 Walnut Street, Des Moines, IA 50309, (515) 284-4663

Kansas

PO Box 4653, 1200 SW Executive Drive, Topeka, KS 66604, (785) 271-2700

Kentucky

Suite 200, 771 Corporate Drive, Lexington, KY 40503, (606) 224-7300

Louisiana

3727 Government Street, Alexandria, LA 71302, (318) 473-7920

Maine

PO Box 405, 444 Stillwater Avenue, Suite 2, Bangor, ME 04402-0405, (207) 990-9106

Massachusetts, Connecticut, and Rhode Island

451 West Street, Amherst, MA 01002, (413) 253-4300

Michigan

Suite 200, 3001 Coolidge Road, East Lansing, MI 48823, (517) 324-5100

Minnesota

410 AgriBank Building, 375 Jackson Street, St. Paul, MN 55101-1853, (651) 602-7800

Mississippi

Federal Building, Suite 831, 100 W. Capitol Street, Jackson, MS 39269, (601) 956-4316

Missouri

Parkade Center, Suite 235, 601 Business Loop 70 West, Columbia, MO 65203, (573) 876-0976

Montana

Unit 1, Suite B, 900 Technology Boulevard, Bozeman, MT 59715, (406) 585-2580

Nebraska

Federal Building, Room 152, 100 Centennial Mall N, Lincoln, NE 68508, (402) 437-5551

Nevada

1390 S. Curry Street, Carson City, NV 89703-9910, (775) 887-1222

New Jersey

Tarnsfield Plaza, Suite 22, 790 Woodlane Road, Mt. Holly, NJ 08060, (609) 265-3600

New Mexico

Room 255, 6200 Jefferson Street, NE Albuquerque, NM 87109, (505) 761-4950

New York

The Galleries of Syracuse, 441 S. Salina Street, Suite 357, Syracuse, NY 13202-2541, (315) 477-6400

North Carolina

Suite 260, 4405 Bland Road, Raleigh, NC 27609, (919) 873-2000

North Dakota

Federal Building, Room 208, 220 East Rooser, PO Box 1737, Bismarck, ND 58502-1737, (701) 250-4781

Ohio

Federal Building, Room 507, 200 N. High Street, Columbus, OH 43215-2477, (614) 255-2400

Oklahoma

Suite 108, 100 USDA, Stillwater, OK 74074-2654, (405) 742-1000

Oregon

Suite 1410, 101 SW Main, Portland, OR 97204-3222, (503) 414-3300

Pennsylvania

Suite 330, One Credit Union Place, Harrisburg, PA 17110-2996, (717) 237-2299

Puerto Rico

PO Box 366106, San Juan, PR 00936-6101, (787) 766-5095

South Carolina

Strom Thurmond Federal Building, 1835 Assembly Street, Room 1007, Columbia, SC 29201, (803) 765-5163

South Dakota

Federal Building, Room 210, 200 Fourth Street, SW, Huron, SD 57360, (605) 352-1100

Tennessee

Suite 300, 3322 W. End Avenue, Nashville, TN 37203-1084, (615) 783-1300

Texas

Federal Building, Suite 102, 101 S. Main, Temple, TX 76501, (254) 742-9700

Utah

Wallace F. Bennett Federal Building, 125 S. State Street, Room 4311, Salt Lake City, UT 84147, (801) 524-4320

Vermont and New Hampshire

City Center, 3rd Floor 89 Main Street, Montpelier, VT 05602, (802) 828-6000

Virginia

Culpeper Building, Suite 238, 1606 Santa Rosa Road, Richmond, VA 23229

(804) 287-1550

Washington

Suite B, 1835 Black Lake Blvd., SW, Olympia, WA 98512-5715, (360) 704-7740

West Virginia

Federal Building, Room 320, 75 High Street, Morgantown, WV 26505-7500, (304) 291-4791

Wisconsin

4949 Kirschling Court, Stevens Point, WI 54481, (715) 345-7600

Wyoming

Federal Building, Room 1005, 100 East B, PO Box 820, Casper, WY 82602, (307) 261-6300

[FR Doc. 00-11373 Filed 5-5-00; 8:45 am]

BILLING CODE 3410-XV-U